DEPARTMENT OF THE TREASURY

Submission for OMB Review; Comment Request

March 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 1, 2002 to be assured of consideration.

Bureau of Alcohol, Tobacco and Firearms

OMB Number: 1512-0089.

Form Number: ATF F 5100.24.

Type of Review: Extension.

Title: Application for Basic Permit Under the Federal Alcohol Administration Act.

Description: ATF F 5400.24 will be completed by persons intending to engage in a business involving beverage alcohol operations at distilled spirits plants, bonded wineries, or wholesaling/importing businesses. The information allows ATF to identify the applicant and the location of the business and to determine whether the applicant qualifies for a permit.

Respondents: Business or other for-profit.

Estimated Number of Respondents: 1,600.

Estimated Burden Hours Per Respondent: 1 hour, 45 minutes.

Frequency of Response: On occasion.

Estimated Total Reporting Burden: 2,800 hours.

OMB Number: 1512-0090.

Form Number: ATF F 5100.18 (1643).

Type of Review: Extension.

Title: Application for Amended Basic Permit Under the Federal Alcohol Administration Act.

Description: ATF F 5100.18 is completed by permittees who change their operations which require a new permit to be issued or a notice to be received by ATF. The information allows ATF to identify the permittee, the changes to the permit or business and to determine whether the applicant qualifies.

Respondents: Business or other for-profit.

Estimated Number of Respondents: 1,200.

Estimated Burden Hours Per Respondent: 30 minutes.

Frequency of Response: On occasion.

Estimated Total Reporting Burden: 600 hours.

OMB Number: 1512-0507.

Form Number: ATF F 5300.26.

Type of Review: Extension.

Title: Federal Firearms and Ammunition Excise Tax.

Description: This information is needed to determine how much tax is owed for firearms and ammunition. ATF uses this information to verify that a taxpayer has correctly determined and paid tax liability on the sale or use of firearms and ammunition. Businesses, including small to large, and individuals may be required to use this form.

Respondents: Business or other for-profit.

Estimated Number of Respondents: 965.

Estimated Burden Hours Per Respondent: 7 hours.

Frequency of Response: Quarterly, Other (annual if no tax is due).

Estimated Total Reporting Burden: 27,020 hours.

OMB Number: 1512-0548.

Form Number: ATF F 6410.1.

Type of Review: Extension.

Title: Gang Resistance Education and Training Funding Application.

Description: State and Local law enforcement agencies desiring financial assistance for the G.R.E.A.T. Program will submit ATF F 6410.1 to the ATF, G.R.E.A.T. Branch. The information collected will be used by ATF to evaluate the applicants funding need. The information will also be used to determine funding priorities and levels of funding, as required by law.

Respondents: State, Local or Tribal Government.

Estimated Number of Respondents: 400.

Estimated Burden Hours Per Respondent: 2 hours.

Frequency of Response: Annually.

Estimated Total Reporting Burden: 800 hours.

Clearance Officer: Jacqueline White (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Mary A. Able,
Departmental Reports Management Officer.

[FR Doc. 02-7767 Filed 3-29-02; 8:45 am]

BILLING CODE 4810-31-P